DEPARTMENT OF ENERGY

Federal Energy Regulatory Commission

[Project No. 12589-001]

Public Service Company of Colorado; Notice of Application Accepted for Filing, Soliciting Motions To Intervene and Protests, Ready for Environmental Analysis, and Soliciting Comments, Recommendations, Preliminary Terms and Conditions, and Preliminary Fishway Prescriptions

September 4, 2008.

Take notice that the following hydroelectric application has been filed with the Commission and is available for public inspection.

a. Type of Application: New Major License.

b. Project No.: P-12589-001.

c. Date Filed: June 25, 2008.

d. Applicant: Public Service Company of Colorado (d/b/a Xcel Energy).

e. Name of Project: Tacoma Hydroelectric Project.

f. Location: The existing project is located on Cascade Creek, Little Cascade Creek and Elbert Creek in La Plata and San Juan Counties, Colorado. The Tacoma Project occupies 221 acres of the San Juan National Forest.

g. Filed Pursuant to: Federal Power Act 16 U.S.C. 791(a)-825(r).

h. Applicant Contact: Randy Rhodes, Public Service Company of Colorado, 4653 Table Mountain Drive, Golden, Colorado 80403; telephone (720) 497-2123.

i. FERC Contact: David Turner (202) 502-6091 or via e-mail at david.turner@ferc.gov.

j. The deadline for filing motions to intervene and protests, comments, recommendations, preliminary terms and conditions, and preliminary fishway prescriptions is November 3, 2008; reply comments are due December 18, 2008.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, preliminary terms and conditions, and preliminary fishway prescriptions may be filed electronically via the Internet in lieu of paper. The Commission strongly encourages electronic filings. See 18 CFR 385.2001(a)(1)(iii) and the instructions on the Commission's Web site (http://www.ferc.gov) under the “e-Filing” link.

k. This application has been accepted for filing and is ready for environmental analysis.

l. The existing project consists of the following: (1) A 30-foot-long, 10-foot-high concrete diversion dam on Cascade Creek; (2) a 4,200-foot-long, 10-foot-diameter, semi-circular, elevated wooden flume; (3) a 1,400-foot-long, 60-inch-diameter steel inverted siphon; (4) a 14,500-foot-long, 64-inch-diameter steel pipeline; (5) the open channel of Little Cascade Creek; (6) a 0.5-mile-long, 5-foot-deep lake (Columbine Lake) formed by a small, partially breached timber dam on Little Cascade Creek; (7) the open channel of Little Cascade Creek downstream of Columbine Lake; (8) the 4-acre Aspaas Lake; (9) a 274-foot-long, 27-foot-high, earth-filled Aspaas dam; (10) a 14-foot-wide, rock-cut open diversion channel that diverts flow from Aspaas Lake to Electra Lake; (11) the 800-acre Electra Lake; (12) a 140-foot-long, 20-foot-high, rock-filled, timber crib dam (Stagecoach dam) serving as the spillway for Electra Lake; (13) a 1,270-foot-long, 62-foot-high, rock-filled dam (Terminal dam), with an impermeable asphalt membrane on the upstream face and an asphalt-paved crest; (14) a 429-foot-long, 54-inch-diameter steel pipe intake under the Terminal dam that leads project flows from Electra Lake to a valve vault; (15) the valve vault; (16) a 9,590-foot-long, 66-inch-diameter welded steel penstock, with a 12-foot-diameter, 116-foot-high surge tank; (17) a bifurcated penstock structure that diverts flow to a 2,050-foot-long, 30-inch-diameter welded steel penstock that enters the powerhouse and a 2,050-foot-long, 54-inch diameter welded steel penstock that branches to a 46-inch diameter pipe immediately prior to entering the powerhouse; (18) a 108-foot-long, 64-foot-wide, steel frame, brick powerhouse containing three generating units with a total installed capacity of 8 megawatts (MW), one of which is currently disabled due to a catastrophic failure and proposed to be replaced; (19) a 44 kV substation adjacent to the powerhouse; and (20) appurtenant facilities.

The project is operated both as a base-load plant and a peaking plant depending on the time of the year. The applicant proposes the following changes to project facilities: (1) Project boundary modifications to reflect lands needed for project operations; (2) rehabilitation and addition of the 6-foot-high Canyon Creek diversion to supply potable water, emergency cooling water, and fire protection; (3) the addition of a 4 MW turbine-generator (Unit 4); and (4) several recreation and environmental measures.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659. A copy is also available for inspection and reproduction at the address in item h above.

Register online at http://www.ferc.gov/esubscribenow.htm to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS”; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following Hydro Licensing Schedule. Revisions to the schedule may be made as appropriate.

Milestone | Target date
Filing of Interventions, Recommendations, Preliminary Terms and Conditions, and Fishway Prescriptions | November 3, 2008.
Reply Comments Due | December 18, 2008.
Issue Draft EA | March 18, 2009.
Comments on Draft EA Due | April 17, 2009.
Filing of Modified Mandatory Terms and Conditions | June 16, 2009.
Issue Final EA | September 14, 2009.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification.

Kimberly D. Bose,
Secretary.

[FR Doc. E8-21065 Filed 9-10-08; 8:45 am]

BILLING CODE 6717-01-P